DEPARTMENT OF JUSTICE

Notice of Lodging of Proposed Stipulated Order Under the Clean Air Act

On November 6, 2024, the Department of Justice lodged a proposed Stipulated Order with the United States District Court for the Eastern District of Missouri in the lawsuit entitled United States, et. al v. Ameren Missouri, Civil Action No. 4:11-cv-00077-RWS (E.D. Missouri).

The proposed Stipulated Order would resolve all remaining claims of the United States, on behalf of the United States Environmental Protection Agency (“EPA”), and those of Plaintiff-Intervenor Sierra Club, against Ameren Missouri (“Ameren”), regarding Clean Air Act violations at the utility's Rush Island coal-fired power plant in Festus, Missouri.

Under the proposed Stipulated Order, Ameren will implement two primary mitigation projects:

(1) A project to support the distribution of stand-alone HEPA purifier devices to residential customers within Ameren's service territory located predominantly in Eastern Missouri, prioritizing distribution to low-income households, and

(2) A project to promote the transition to electric school buses for schools in the St. Louis metropolitan and surrounding areas with the charging stations necessary to support these vehicles.

In the event certain benchmarks are not met when implementing the HEPA purifier and electric school bus programs, Ameren will complete a third mitigation project—administering funds for the purpose of implementing weatherization and energy efficiency upgrades that will reduce energy consumption by residential buildings in Ameren's service area.

The publication of this notice opens a period for public comment on the Stipulated Order. Comments should be addressed to the Assistant Attorney General, Environment and Natural Resources Division, and should refer to United States, et al. v. Ameren Missouri, Civil Action No. 4:11-cv-00077-RWS, D.J. Ref. No. 90-5-2-1-09844 (E.D. Missouri). All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Stipulated Order may be examined and downloaded at this Justice Department website: https://www.justice.gov/enrd/consent-decrees. If you require assistance accessing the proposed Stipulated Order, you may request assistance by email or by mail to the addresses provided above for submitting comments.

Jason A. Dunn,
Assistant Section Chief, Environmental Enforcement Section, Environment and Natural Resources Division.

[FR Doc. 2024-26254 Filed 11-12-24; 8:45 am]

BILLING CODE 4410-15-P